DEPARTMENT OF COMMERCE

Foreign-Trade Zones Board

[B-28-2014]

Foreign-Trade Zone 107—Des Moines, Iowa, Expansion of Subzone 107A, Winnebago Industries, Inc., Lake Mills, Iowa

An application has been submitted to the Foreign-Trade Zones (FTZ) Board by the Iowa Foreign Trade Zone Corporation, grantee of FTZ 107, requesting an expansion of Subzone 107A on behalf of Winnebago Industries, Inc. (Winnebago), to include a site in Lake Mills, Iowa. The application was submitted pursuant to the provisions of the Foreign-Trade Zones Act, as amended (19 U.S.C. 81a-81u), and the regulations of the FTZ Board (15 CFR part 400). It was formally docketed on March 24, 2014.

Subzone 107A was approved on September 4, 1984 (Board Order 273, 49 FR 3597l, 9-13-1984), and expanded on January 17, 2008 (Board Order 1539, 73 FR 5175, 1-29-2008). The subzone currently consists of two sites: Site 1 (237.32 acres)—605 W. Crystal Lake Road in Forest City; and, Site 2 (21 acres)—1200 Rove Avenue, Charles City.

The current request would add a site (7.49 acres) located at 808 N. Lake Street in Lake Mills, to the subzone. No additional authorization for production activity has been requested at this time.

In accordance with the FTZ Board's regulations, Elizabeth Whiteman of the FTZ Staff is designated examiner to review the application and make recommendations to the FTZ Board.

Public comment is invited from interested parties. Submissions shall be addressed to the FTZ Board's Executive Secretary at the address below. The closing period for their receipt is May 7, 2014. Rebuttal comments in response to material submitted during the foregoing period may be submitted during the subsequent 15-day period to May 22, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: March 24, 2014.
Andrew McGilvray,
Executive Secretary.

[FR Doc. 2014-06988 Filed 3-27-14; 8:45 am]

BILLING CODE 3510-DS-P